DEPARTMENT OF HEALTH AND HUMAN SERVICES

Food and Drug Administration

[Docket No. FDA-2017-N-5079]

Determination That NIZORAL (Ketoconazole) Tablets, 200 Milligrams, Were Not Withdrawn From Sale for Reasons of Safety or Effectiveness

AGENCY: Food and Drug Administration, HHS.

ACTION: Notice.

SUMMARY: The Food and Drug Administration (FDA or Agency) has determined that NIZORAL (ketoconazole) tablets, 200 milligrams (mg), were not withdrawn from sale for reasons of safety or effectiveness. This determination means that FDA will not begin procedures to withdraw approval of abbreviated new drug applications (ANDAs) that refer to NIZORAL, and it will allow FDA to continue to approve ANDAs that reference NIZORAL as long as they meet relevant legal and regulatory requirements.

FOR FURTHER INFORMATION CONTACT: Robin Fastenau, Center for Drug Evaluation Research, Food and Drug Administration, 10903 New Hampshire Ave., Bldg. 51, Rm. 6236, Silver Spring, MD 20993-0002, 240-402-4510.

SUPPLEMENTARY INFORMATION: In 1984, Congress enacted the Drug Price Competition and Patent Term Restoration Act of 1984 (Pub. L. 98-417) (the 1984 amendments), which authorized the approval of duplicate versions of drug products under an ANDA procedure. ANDA applicants must, with certain exceptions, show that the drug for which they are seeking approval contains the same active ingredient in the same strength and dosage form as the “listed drug,” which is a version of the drug that was previously approved. ANDA applicants do not have to repeat the extensive clinical testing otherwise necessary to gain approval of a new drug application (NDA).

The 1984 amendments include what is now section 505(j)(7) of the Federal Food, Drug, and Cosmetic Act (21 U.S.C. 355(j)(7)), which requires FDA to publish a list of all approved drugs. FDA publishes this list as part of the “Approved Drug Products With Therapeutic Equivalence Evaluations,” which is known generally as the “Orange Book.” Under FDA regulations, drugs are removed from the list if the Agency withdraws or suspends approval of the drug's NDA or ANDA for reasons of safety or effectiveness or if FDA determines that the listed drug was withdrawn from sale for reasons of safety or effectiveness (21 CFR 314.162).

A person may petition the Agency to determine, or the Agency may determine on its own initiative, whether a listed drug was withdrawn from sale for reasons of safety or effectiveness. This determination may be made at any time after the drug has been withdrawn from sale, but must be made prior to approving an ANDA that refers to the listed drug (§ 314.161 (21 CFR 314.161)). FDA may not approve an ANDA that does not refer to a listed drug.

NIZORAL (ketoconazole) tablets, 200 mg, is the subject of NDA 018-533 and was originally held by Johnson & Johnson Research and Development, L.L.C., now known as Janssen Research & Development, L.L.C. (Janssen). It was initially approved on June 12, 1981. NIZORAL should be used only when other effective antifungal therapy is not available or tolerated and the potential benefits are considered to outweigh the potential risks. NIZORAL is indicated for the treatment of the following systemic fungal infections in patients who have failed or who are intolerant to other therapies: blastomycosis, coccidioidomycosis, histoplasmosis, chromomycosis, and paracoccidioidomycosis.

In a letter dated May 22, 2008, Janssen, which at that time was operating as Johnson & Johnson Pharmaceutical Research & Development, L.L.C., acting on behalf of Ortho-McNeil-Janssen Pharmaceuticals, Inc., notified FDA that NIZORAL (ketoconazole) tablets, 200 mg, were being discontinued and requested withdrawal of NDA 018-533. In the Federal Register of October 13, 2015 (80 FR 61426), FDA announced that it was withdrawing approval of NDA 018-533, effective November 12, 2015.

After reviewing Agency records and based on the information we have at this time, FDA has determined under § 314.161 that NIZORAL (ketoconazole) tablets, 200 mg, were not withdrawn for reasons of safety or effectiveness. We have carefully reviewed our files for records concerning the withdrawal of NIZORAL (ketoconazole) tablets, 200 mg, from sale. We have also independently evaluated relevant literature and data for possible postmarketing adverse events. We have reviewed the available evidence and determined that this drug product was not withdrawn from sale for reasons of safety or effectiveness.

Accordingly, the Agency will continue to list NIZORAL (ketoconazole) tablets, 200 mg, in the “Discontinued Drug Product List” section of the Orange Book. The “Discontinued Drug Product List” delineates, among other items, drug products that have been discontinued from marketing for reasons other than safety or effectiveness. FDA will not begin procedures to withdraw approval of approved ANDAs that refer to NIZORAL. Additional ANDAs that refer to NIZORAL (ketoconazole) tablets, 200 mg, may also be approved by the Agency as long as they meet all other legal and regulatory requirements for the approval of ANDAs. If FDA determines that labeling for this drug product should be revised to meet current standards, the Agency will advise ANDA applicants to submit such labeling.

Dated: August 28, 2017.
Anna K. Abram,
Deputy Commissioner for Policy, Planning, Legislation, and Analysis.

[FR Doc. 2017-18548 Filed 8-31-17; 8:45 am]

BILLING CODE 4164-01-P